DEPARTMENT OF ENERGY

Federal Energy Regulatory Commission

[Project No. 2232-543]

Duke Energy Carolinas, LLC; Notice of Availability of Environmental Assessment

August 1, 2008.

In accordance with the National Environmental Policy Act of 1969 and the Federal Energy Regulatory Commission's regulations, 18 CFR Part 380 (Order No. 486, 52 FR 47879) the Office of Energy Projects has prepared an environmental assessment (EA) for an application filed by Duke Energy Carolinas, LLC (licensee) on August 29, 2007, requesting Commission approval of a non-project use of project lands. The licensee has requested Commission authorization to lease to Long Island Marina, Inc. (Long Island) 3.239 acres of project lands for a commercial marina at the existing, previously approved Long Island Marina on Lake Norman in Catawba County, North Carolina. Long Island proposes to re-configure and upgrade the marina. Dredging of 1700 cubic yards of lake-bed would be required for this reconfiguration. The marina would serve the general public and the residents of Long Island Resorts.

The EA evaluates the environmental impacts that would result from approving the licensee's proposal to grant Long Island permission to expand and reconfigure its marina facilities. The EA finds that approval of the application would not constitute a major federal action significantly affecting the quality of the human environment.

A copy of the EA is on file with the Commission and is available for public inspection. The EA may also be viewed on the Commission's Web site at http://www.ferc.gov using the “eLibrary” link. Enter the docket number (P-2232) excluding the last three digits in the docket number field to access the document. For assistance, contact FERC Online Support at FERCOnlineSupport@ferc.gov or toll-free at 1-866-208-3372, or for TTY, (202) 502-8659.

Any comments should be filed by September 2, 2008, and should be addressed to the Secretary, Federal Energy Regulatory Commission, 888 First Street, NE., Room 1-A, Washington, DC 20426. Please reference the project name and project number (P-2232) on all comments. Comments may be filed electronically via Internet in lieu of paper. The Commission strongly encourages electronic filings. See 18 CFR 385.2001(a)(1)(iii) and the instructions on the Commission's Web site under the “eFiling” link. For further information, contact Christopher Yeakel at (202) 502-8132.

Kimberly D. Bose,
Secretary.

[FR Doc. E8-18266 Filed 8-7-08; 8:45 am]

BILLING CODE 6717-01-P